DEPARTMENT OF ENERGY

Office of Energy Efficiency and Renewable Energy

Amendment to an Approved Agency Information Collection

AGENCY: Office of Energy Efficiency and Renewable Energy, U.S. Department of Energy.

ACTION: Notice and Request for Comments.

SUMMARY: The Department of Energy (DOE) invites public comment on a proposed collection of information that DOE is developing for submission to the Office of Management and Budget (OMB) pursuant to the Paperwork Reduction Act of 1995. The proposed collection of information relates to three of DOE's Better Buildings Programs. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 10, 2013. If you anticipate difficulty in submitting comments within that period, contact the person listed in ADDRESSES as soon as possible.

ADDRESSES: Written comments may be sent Nancy Gonzalez, EE-2F/Forrestal Building, 1000 Independence Avenue SW., Washington, DC 20585, by fax at 202-586-5234, or by email at nancy.gonzalez@ee.doe.gov.

FOR FURTHER INFORMATION CONTACT: Requests for additional information or copies of the information collection instrument and instructions should be directed to Nancy Gonzalez, EE-2F/Forrestal Building, 1000 Independence Avenue SW., Washington, DC 20585, by fax at 202-586-5234, or by email at nancy.gonzalez@ee.doe.gov.

SUPPLEMENTARY INFORMATION: This information collection request contains:

(1) OMB No.: 1910-5141;

(2) Information Collection Request Title: Department of Energy Better Buildings Challenge Information Collection Request;

(3) Type of Request: Amendment;

(4) Purpose: This Information Collection Request applies to three Department of Energy (DOE) voluntary leadership initiatives: (1) The Better Buildings Challenge; (2) the Better Buildings, Better Plants Program; and (3) the Better Buildings Alliance. The information being collected is needed so as to include participants in the DOE's Better Buildings Alliance Program, as well as collecting additional information on a Better Buildings, Better Plants Program training function. Each leadership initiative is intended to drive greater energy efficiency in the commercial and industrial marketplace to create savings and jobs. This will be accomplished by highlighting the ways participants overcome market barriers/persistent obstacles with replicable, marketplace solutions. The program will showcase real solutions and partner with industry leaders to better understand policy and technical opportunities. There are three types of information to be collected from primary participants, also referred to as “Partners”: (1) Background data, including contact information, a partnership agreement form, logo(s), information needed to support public announcements, updates on participants' showcase projects, and an energy savings goal; (2) Portfolio-wide energy performance information; and (3) Information on market innovations participants are including in their energy efficiency processes. Background data will primarily be used to develop Web site content that will be publically available. Portfolio-wide facility-level energy performance information will be used by DOE to measure the participants' progress in meeting the goals of the program, as well as to aggregate the change in energy performance and related metrics for the entire program. Information on market innovation will be used to highlight successful strategies participants use to overcome challenges, and will be publicly available. Additional background information is being collected from “Allies”, financial and utility organizations that make a public commitment to support the energy efficiency marketplace. Background information including name, commitment in terms of dollars committed by financial allies, or percent of commercial customer class committed by utility allies, and a company logo will be used to develop publically available Web site content. Responses to the DOE's Information Collection Request will be voluntary.

(5) Annual Estimated Number of Respondents: Amending currently approved Information Collection Request (“ICR”) which includes respondents of 305, by 245, for a total of 550;

(6) Annual Estimated Number of Total Responses: Amending currently approved ICR with includes an estimated number of total response of 2,108 by 1,070, for a total of 3,178;

(7) Annual Estimated Number of Burden Hours: Amending currently approved ICR with an estimated number of burden hours of 3,731, by 1346, for a total of 5077.

(8) Annual Estimated Reporting and Recordkeeping Cost Burden: Amending currently approved ICR with an estimated $143,251, by $51,675, for a total reporting and recording cost burden of $194,926.

Statutory Authority: Section 421 of the Energy Independence and Security Act of 2007 (42 U.S.C. 17081); Section 911 of the Energy Policy Act of 2005, as amended (42 U.S.C. 16191).

Issued in Washington, DC on April 3, 2013.
Maria Vargas,
Director Better Buildings Challenge, Buildings Technology Program.

[FR Doc. 2013-08484 Filed 4-10-13; 8:45 am]

BILLING CODE 6450-01-P